DEPARTMENT OF ENERGY

Federal Energy Regulatory Commission Combined Notice of Filings #1

Take notice that the Commission received the following electric corporate filings:

Docket Numbers: EC12-40-000.

Applicants: Caney River Wind Project, LLC, Rocky Ridge Wind Project, LLC.

Description: Joint Application for Authorization Under Section 203 of the Federal Power Act for the Disposition of Jurisdictional Facilities, Request for Expedited Consideration and Confidential Treatment of Caney River Wind Project, LLC, et al.

Filed Date: 11/22/11.

Accession Number: 20111122-5201.

Comments Due: 5 p.m. ET 12/13/11.

Take notice that the Commission received the following exempt wholesale generator filings:

Docket Numbers: EG12-9-000.

Applicants: Fire Island Wind, LLC.

Description: Supplemental Information Clarifying Notice of Self-Certification of EWG Status of Fire Island Wind, LLC.

Filed Date: 11/7/11.

Accession Number: 20111107-5038.

Comments Due: 5 p.m. ET 11/28/11.

Docket Numbers: EG12-15-000.

Applicants: NRG Texas Power LLC.

Description: Notice of Self Certification of Exempt Wholesale Generator Status NRG Texas Power LLC.

Filed Date: 11/22/11.

Accession Number: 20111122-5143.

Comments Due: 5 p.m. ET 12/13/11.

Take notice that the Commission received the following electric rate filings:

Docket Numbers: ER11-3627-001.

Applicants: Southwest Power Pool, Inc.

Description: Compliance Filing In Order ER11-3627—Revisions to Attachment AE, Section 4.4 to be effective 7/24/2011.

Filed Date: 11/22/11.

Accession Number: 20111122-5133.

Comments Due: 5 p.m. ET 12/13/11.

Docket Numbers: ER12-463-000.

Applicants: Midwest Independent Transmission System Operator, Inc.

Description: IP03 Termination to be effective 1/22/2012.

Filed Date: 11/22/11.

Accession Number: 20111122-5126.

Comments Due: 5 p.m. ET 12/13/11.

Docket Numbers: ER12-464-000.

Applicants: Madison Gas and Electric Company.

Description: MGE Seller Category Update to be effective 11/23/2011.

Filed Date: 11/22/11.

Accession Number: 20111122-5131.

Comments Due: 5 p.m. ET 12/13/11.

Docket Numbers: ER12-465-000.

Applicants: Nevada Power Company.

Description: Amended & Restated Purchase Power Agreement to be effective 11/23/2011.

Filed Date: 11/22/11.

Accession Number: 20111122-5145.

Comments Due: 5 p.m. ET 12/13/11.

Docket Numbers: ER12-466-000.

Applicants: Duke Energy Carolinas, LLC.

Description: NCEMC Catwaba IA RS No. 273 to be effective 1/1/2012.

Filed Date: 11/22/11.

Accession Number: 20111122-5172.

Comments Due: 5 p.m. ET 12/13/11.

Docket Numbers: ER12-467-000.

Applicants: Duke Energy Carolinas, LLC.

Description: Amendment to NCEMC PPA RS No. 326 to be effective 1/1/2012.

Filed Date: 11/22/11.

Accession Number: 20111122-5174.

Comments Due: 5 p.m. ET 12/13/11.

Docket Numbers: ER12-468-000.

Applicants: Black Hills Power, Inc.

Description: Revised BH Power, Inc., JOATT Attachment H to be effective 8/1/2011.

Filed Date: 11/22/11.

Accession Number: 20111122-5178.

Comments Due: 5 p.m. ET 12/13/11.

Docket Numbers: ER12-469-000.

Applicants: PJM Interconnection, L.L.C.

Description: Petition of PJM Interconnection, L.L.C. for Institution of Proceeding To Determine Proper Billing Adjustments and for Waiver of Tariff.

Filed Date: 11/22/11.

Accession Number: 20111122-5199.

Comments Due: 5 p.m. ET 12/13/11.

Take notice that the Commission received the following electric reliability filings:

Docket Numbers: RR12-2-000.

Applicants: North American Electric Reliability Corp.

Description: Petition of North American Electric Reliability Corporation for Approval of Amendments to Delegation Agreement with Western Electricity Coordinating Council under RR12-2.

Filed Date: 11/22/11.

Accession Number: 20111122-5180.

Comments Due: 5 p.m. ET 12/13/11

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 23, 2011.
Nathaniel J. Davis, Sr.,
Deputy Secretary.

[FR Doc. 2011-31789 Filed 12-9-11; 8:45 am]

BILLING CODE 6717-01-P